DEPARTMENT OF COMMERCE

National Oceanic and Atmospheric Administration

RIN 0648-XD755

Gulf of Mexico Fishery Management Council (Council); Public Meeting

AGENCY: National Marine Fisheries Service (NMFS), National Oceanic and Atmospheric Administration (NOAA), Commerce.

ACTION: Notice of public meeting.

SUMMARY: The Gulf of Mexico Fishery Management Council will hold a meeting of the Ecosystem Scientific and Statistical Committee.

DATES: The meeting will be held from9 a.m. until 5 p.m. on Wednesday, February 25, 2015.

ADDRESSES: The meeting will be held at the Gulf of Mexico Fishery Management Council Office, 2203 North Lois Avenue, Suite 1100, Tampa, FL 33607.

FOR FURTHER INFORMATION CONTACT: Dr. Morgan Kilgour, Fishery Biologist, Gulf of Mexico Fishery Management Council; telephone: (813) 348-1630; fax: (813) 348-1711; email: morgan.kilgour@gulfcouncil.org.

SUPPLEMENTARY INFORMATION: The items of discussion on the agenda are as follows:

Ecosystem Scientific and Statistical Committee Agenda, Tuesday, February 25, 2015, 9 a.m. Until 5 p.m.

1. Introductions and Adoption of Agenda

2. Approval of Ecosystem portion of June 3-5, 2014 Standing, Special Reef Fish, and Ecosystem SSC summary minutes

3. Scope of Work

4. Selection of SSC representative at March 30-April 3, 2015 Council meeting (Biloxi, MS)

5. Madison-Swanson and Steamboat Lumps Marine Reserves Reports

a. Protection of grouper and red snapper spawning in shelf-edge marine reserves of the northeastern Gulf of Mexico: Demographics, movements, survival and spillover effects (2011)

b. NMFS monitoring report and work from Coral Reef Conservation Program

c. Grouper and spawning aggregations and reserves

6. Report of the Ecosystem Based Fisheries Management Plan Working Group

a. Goals and Objectives

b. Ecosystem and Socioeconomic Information Needs

c. Next Steps

7. Other Ecosystem SSC Business

a. Summary on Lenfest Task Force Meeting

—Adjourn—

For meeting materials see folder “Ecosystem Scientific and Statistical Committee meeting—2015-02” on Gulf Council file server. To access the file server, the URL is https://public.gulfcouncil.org:5001/webman/index.cgi, or go to the Council's Web site and click on the FTP link in the lower left of the Council Web site(http://www.gulfcouncil.org). The username and password are both “gulfguest”. The Agenda is subject to change.

The meeting will be Webcast over the Internet. A link to the Webcast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: February 4, 2015.
Tracey L. Thompson,
Acting Deputy Director, Office of Sustainable Fisheries, National Marine Fisheries Service.

[FR Doc. 2015-02565 Filed 2-6-15; 8:45 am]

BILLING CODE 3510-22-P